NUCLEAR WASTE TECHNICAL REVIEW BOARD

Privacy Act of 1974; Systems of Records

AGENCY: U.S. Nuclear Waste Technical Review Board.

ACTION: Notice of modification to two existing systems of records.

SUMMARY: 5 U.S.C. 552a requires that each federal agency review its systems of records containing personal information covered by the Privacy Act of 1974. As a result of its latest review, the Board is amending both of the systems of records that it maintains. A description of these systems was published in November 22, 2006 (71 FR 67654-67655). The Board proposed amending NWTRB-1 and expanding NWTRB-2 to include other information useful to the Board. In the first system, Administrative Files, some categories were overlooked in the previous notice. The Board further proposed expanding the second system, Mailing List, to become the Contact List. The Board determined that the changes to NWTRB-1 were important enough to republish the notice with the changes and that the changes to NWTRB-2 were substantial enough to accept comments on the proposed expansion until January 15, 2007. The Board received no comments on the proposed expansion.

DATES: The changes to NWTRB-2 will become effective on February 28, 2007.

FOR FURTHER INFORMATION CONTACT: Victoria Reich, 703-235-4473.

SUPPLEMENTARY INFORMATION: The Board currently maintains two systems of records , NWTRB-1 and NWTRB-2, that contain information covered by the Privacy Act of 1974. In its review of these systems, the Board has found classes of information that were not included in its previous notice and on November 22, 2006, republished NWTRB-1 with the corrections added. The Board further found that expanding the records in NWTRB-2 would make it more useful and requested comments from the public from November 22, 2006, until January 15, 2007. No comments were received during this period. Accordingly, the Board plans to proceed with the proposed changes on February 28, 2007.

Dated: February 23, 2007.
William D. Barnard,
Executive Director, U.S. Nuclear Waste Technical Review Board.

[FR Doc. 07-885 Filed 2-27-07; 8:45 am]

BILLING CODE 6820-AM-M